FEDERAL MARITIME COMMISSION

46 CFR Part 541

[Docket No. FMC-2022-0066]

RIN 3072-AC90

Demurrage and Detention Billing Requirements

AGENCY: Federal Maritime Commission.

ACTION: Proposed rule; finding of no significant impact.

SUMMARY: This document announces the availability of the Federal Maritime Commission's (Commission) draft Finding of No Significant Impact (FONSI) related to the proposed regulations on Demurrage and Detention Billing Requirements.

DATES: Petitions for review of the Commission's FONSI under NEPA must be submitted on or before December 9, 2022

ADDRESSES: You may submit petitions for review by using the Federal eRulemaking Portal at www.regulations.gov, under Docket No. FMC-2022-0066, Demurrage and Detention Billing Requirements.

FURTHER INFORMATION CONTACT: William Cody, Secretary; Phone: (202) 523-5908; Email: secretary@fmc.gov.

SUPPLEMENTARY INFORMATION: On October 14, 2022, the Commission issued a notice of proposed rulemaking (NPRM) for new regulations on demurrage and detention billing requirements.¹ In the NPRM, the Commission determined that the proposed rule did not constitute a major Federal action significantly affecting the quality of the human environment within the meaning of the National Environmental Policy Act of 1969, 42 U.S.C. 4321 et seq., and that preparation of an environmental impact statement is not required.² The Commission also noted that the FONSI and environmental assessment would be available for inspection on the docket at https://www.regulations.gov.

¹ 87 FR 62341 (Oct. 14, 2022).

² 87 FR at 62356.

On November 15, 2022, the Commission issued a notice that the FONSI was available on the docket. There was a delay, however, in posting the FONSI, and it was posted on November 22, 2022. Therefore, the Commission is issuing another notice that the FONSI is now available on the docket. This Finding of No Significant Impact will become final within 10 days of publication of this document in the Federal Register unless a petition for review is filed by using the Federal eRulemaking Portal at www.regulations.gov.

By the Commission.
William Cody,
Secretary.

[FR Doc. 2022-26025 Filed 11-25-22; 8:45 am]

BILLING CODE 6730-02-P